ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Wednesday through Friday, September 9-11, 2009, at the times and location noted below.

DATES: The schedule of events is as follows:

Wednesday, September 9, 2009

10:30-Noon Interim Report on Board's Rulemaking Process.

1:30-3 p.m. Technical Programs Committee.

3-4 p.m. Budget Committee.

Thursday, September 10, 2009

1:30-3 p.m. Ad Hoc Committee Meetings (Closed to Public).

3-4:30 p.m. Planning and Evaluation Committee (Closed to Public).

Friday, September 11, 2009

9:30-Noon Committee of the Whole: Board structure discussion.

1:30-3 p.m. Board Meeting.

ADDRESSES: All meetings will be held at the Embassy Suites DC Convention Center Hotel, 900 10th Street, NW., Washington, DC 20001.

FOR FURTHER INFORMATION CONTACT: For further information regarding the meetings, please contact David Capozzi, Executive Director, (202) 272-0010 (voice) and (202) 272-0082 (TTY).

SUPPLEMENTARY INFORMATION: At the Board meeting scheduled on Friday, September 11, the Access Board will consider the following agenda items:

• Approval of the draft July 17, 2009 Board Meeting Minutes.

• Technical Programs Committee Report.

• Budget Committee Report.

• Planning and Evaluation Committee Report.

• Accessible Design in Education Report.

• Acoustics Report.

• Airport Terminal Access Report.

• Emergency Transportable Housing Report.

• Information and Communications Technologies Report.

• Outdoor Developed Areas Report.

• Passenger Vessels Report.

• Public Rights-of-Way Report.

• Transportation Vehicles Report.

• Election Assistance Commission Report.

• Executive Director's Report.

• ADA and ABA Guidelines; Federal Agency Updates.

All meetings are accessible to persons with disabilities. An assistive listening system, computer assisted real-time transcription (CART), and sign language interpreters will be available at the Board meeting. Persons attending Board meetings are requested to refrain from using perfume, cologne, and other fragrances for the comfort of other participants.

David M. Capozzi,
Executive Director.

[FR Doc. E9-20520 Filed 8-25-09; 8:45 am]

BILLING CODE 8150-01-P